DEPARTMENT OF THE INTERIOR

Fish and Wildlife Service

Endangered and Threatened Species Permit Application

AGENCY: Fish and Wildlife Service, Interior.

ACTION: Receipt of applications for recovery permits.

SUMMARY: The following applicants have applied for permits to conduct scientific research and/or enhancement under the Endangered Species Act of 1973 (ESA). The Fish and Wildlife Service has received applications for recovery permits from Mr. Joeseph E. Duchamp, West Lafayette, Indiana; U.S. Army Corps of Engineers, Memphis, Tennessee; and Missouri Department of Conservation, Jackson, Missouri.

DATES: Submit comments on or before December 30, 2002.

ADDRESSES: Written data or comments should be submitted to the Regional Director, U.S. Fish and Wildlife Service, Ecological Services, 1 Federal Drive, Fort Snelling, Minnesota 55111-4056.

FOR FURTHER INFORMATION CONTACT: Mr. Peter Fasbender at (612) 713-5343, or by Fax at (612) 713-5292, e-mail: peter_fasbender@fws.gov.

SUPPLEMENTARY INFORMATION:

Permit Number TE060840

Applicant: Joeseph E. Duchamp, West Lafayette, Indiana, requests a permit to take (capture, handle and release) the Indiana bat (Myotis sodalis) throughout the Upper Wabash River basin in Indiana. The scientific research is aimed at enhancement of survival of the species in the wild.

Permit Number TE060841

Applicant: U.S. Army Corps of Engineers, Memphis, Tennessee, requests a permit to take (capture, handle and release) Curtis' pearlymussel (Epioblasma florentina curtisi), pink mucket pearlymussel (Lampsilis abrupta), fat pocketbook mussel (Potamilus capax) and orange-footed pearlymussel (Plethobasus cooperianus) throughout Illinois and Missouri. The scientific research is requested for project impact assessment.

Permit Number TE060998

Applicant: Missouri Department of Conservation, Jackson, Missouri, requests a permit to take (capture, mark, and release) pallid sturgeon (Scaphirhynchus albus) in the Middle Mississippi River between the confluences of the Missouri and Ohio Rivers, Missouri. The scientific research is aimed at enhancement of survival of the species in the wild.

Documents and other information submitted with these applications are available for review by any party who requests a copy of such documents from the following office within 30 days of the date of publication of this notice: U.S. Fish and Wildlife Service, Ecological Services, 1 Federal Drive, Fort Snelling, Minnesota 55111-4056, peter_fasbender@fws.gov, telephone (612) 713-5343, or Fax (612) 713-5292.

Authority: This notice is provided pursuant to section 10(c) of the Endangered Species Act of 1973, as amended (16 U.S.C. 1531, et seq.); 50 CFR 17.22.

Dated: November 12, 2002.
TJ Miller,
Acting Assistant Regional Director, Ecological Services, Region 3, Fort Snelling, Minnesota.

[FR Doc. 02-30160 Filed 11-27-02; 8:45 am]

BILLING CODE 4310-55-P